DEPARTMENT OF ENERGY

Federal Energy Regulatory Commission

Combined Notice of Filings #1

Take notice that the Commission received the following exempt wholesale generator filings:

Docket Numbers: EG14-70-000.

Applicants: Keechi Wind, LLC.

Description: Self-Certification of EG of Keechi Wind, LLC.

Filed Date: 6/26/14.

Accession Number: 20140626-5109.

Comments Due: 5 p.m. ET 7/17/14.

Take notice that the Commission received the following electric rate filings:

Docket Numbers: ER10-1707-003.

Applicants: Hess Corporation.

Description: Updated Market Power Analysis for the Northeast Region of Hess Corporation.

Filed Date: 6/26/14.

Accession Number: 20140626-5145.

Comments Due: 5 p.m. ET 8/25/14.

Docket Numbers: ER10-3078-002; ER10-3079-007.

Applicants: Commonwealth Chesapeake Company, LLC, Tyr Energy, LLC.

Description: Triennial Market Power Report for the Northeast Region of Commonwealth Chesapeake Company, LLC, et. al.

Filed Date: 6/27/14.

Accession Number: 20140627-5034.

Comments Due: 5 p.m. ET 8/26/14.

Docket Numbers: ER10-3168-009; ER12-1301-003.

Applicants: ArcLight Energy Marketing, LLC, Zone J Tolling Co., LLC.

Description: Updated Market Power Analysis for the Northeast Region of ArcLight Energy Marketing, LLC, et. al.

Filed Date: 6/26/14.

Accession Number: 20140626-5148.

Comments Due: 5 p.m. ET 8/25/14.

Docket Numbers: ER11-3460-004.

Applicants: Bayonne Energy Center, LLC.

Description: Updated Market Power Analysis for the Northeast Region of Bayonne Energy Center, LLC.

Filed Date: 6/26/14.

Accession Number: 20140626-5146.

Comments Due: 5 p.m. ET 8/25/14.

Docket Numbers: ER13-1380-004.

Applicants: New York Independent System Operator, Inc.

Description: New York Independent System Operator, Inc. submits tariff filing per 35: Compliance filing re: G-J Locality pivotal supplier threshold to be effective 3/23/2015.

Filed Date: 6/26/14.

Accession Number: 20140626-5119.

Comments Due: 5 p.m. ET 7/17/14.

Docket Numbers: ER13-1485-002; ER10-3253-002; ER14-1777-001; ER10-3237-002; ER10-3240-002; ER10-3230-002; ER10-3239-002.

Applicants: Wheelabrator Baltimore, L.P., Wheelabrator Bridgeport, L.P., Wheelabrator Falls Inc., Wheelabrator Frackville Energry Co. Inc., Wheelabrator North Andover Inc., Wheelabrator Portsmouth Inc., Wheelabrator Westchester L.P.

Description: Updated Market Power Analysis for the Northeast Region of the Wheelabrator Sellers.

Filed Date: 6/26/14.

Accession Number: 20140626-5149.

Comments Due: 5 p.m. ET 8/25/14.

Docket Numbers: ER14-25-004.

Applicants: Prairie Breeze Wind Energy LLC.

Description: Notification of Change in Facts Under Market-Based Rate Authority of Prairie Breeze Wind Energy LLC.

Filed Date: 6/27/14.

Accession Number: 20140627-5032.

Comments Due: 5 p.m. ET 7/18/14.

Docket Numbers: ER14-1608-002.

Applicants: Public Service Electric and Gas Company, PJM Interconnection, L.L.C.

Description: Public Service Electric and Gas Company submits tariff filing per 35: PSE&G submits compliance filing per 5/27/2014 Order in Docket No. ER14-1608 to be effective 5/28/2014.

Filed Date: 6/26/14.

Accession Number: 20140626-5102.

Comments Due: 5 p.m. ET 7/17/14.

Docket Numbers: ER14-2116-001.

Applicants: PJM Interconnection, L.L.C.

Description: PJM Interconnection, L.L.C. submits tariff filing per 35.17(b): Errata to Original Service Agreement No. 3872; Queue No. X4-039 to be effective 5/8/2014.

Filed Date: 6/26/14.

Accession Number: 20140626-5144.

Comments Due: 5 p.m. ET 7/17/14.

Docket Numbers: ER14-2280-000.

Applicants: Southern California Edison Company.

Description: Southern California Edison Company submits tariff filing per 35.13(a)(2)(iii: GIA and Distrib Serv Agmt with LACSD for Puente Hills Gas-to-Energy Project to be effective 8/27/2014.

Filed Date: 6/27/14.

Accession Number: 20140627-5003.

Comments Due: 5 p.m. ET 7/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2014.
Nathaniel J. Davis, Sr.,
Deputy Secretary.

[FR Doc. 2014-15846 Filed 7-7-14; 8:45 am]

BILLING CODE 6717-01-P